DEPARTMENT OF ENERGY

Federal Energy Regulatory Commission

[Project Nos. 4204-024, 4660-028 and 4659-026-Arkansas White River Lock and Dam Nos. 1, 2, and 3]

City of Batesville, Arkansas and , Independence County, Arkansas; Notice of Proposed Restricted Service List for a Memorandum of Agreement for Managing Properties Included in or Eligible for Inclusion in the National Register of Historic Places

February 20, 2002.

Rule 2010 of the Federal Energy Regulatory Commission's (Commission) Rules of Practice and Procedure provides that, to eliminate unnecessary expense or improve administrative efficiency, the Secretary may establish a restricted service list for a particular phase or issue in a proceeding. ¹ The restricted service list should contain the names of persons on the service list who, in the judgment of the decisional authority establishing the list, are active participants with respect to the phase or issue in the proceeding for which the list is established.

¹ 18 CFR 385.2010.

The Commission staff is consulting with the Arkansas State Historic Preservation Officer (hereinafter, SHPO) and the Advisory Council on Historic Preservation (hereinafter, Council) pursuant to the Council's regulations, 36 CFR part 800, implementing Section 106 of the National Historic Preservation Act, as amended, (16 U.S.C. Section 470 f), to prepare and execute a memorandum of agreement for managing properties included in, or eligible for inclusion in, the National Register of Historic Places at Project Nos. 4204, 4660, and 4659.

The memorandum of agreement, when executed by the Commission, the SHPO, and possibly the Council (36 CFR 800.6), would satisfy the Commission's Section 106 responsibilities for the proposed amendments filed by the City of Batesville, Arkansas and Independence County, Arkansas to change the route of the unconstructed transmission line and to construct a new substation. The Commission's responsibilities pursuant to Section 106 for the above projects would be fulfilled through the memorandum of agreement, which the Commission proposes to draft in consultation with certain parties listed below. The executed memorandum of agreement would be incorporated into any orders amending the licenses.

City of Batesville, Arkansas, and Independence County, Arkansas, as licensees for Project Nos. 4204, 4660, and 4659, are invited to participate in consultations to develop and sign the memorandum of agreement as concurring parties. The Osage and Quapaw Tribes are also invited to participate in consultations to develop and sign the memorandum of agreement as concurring parties.

For purposes of commenting on the memorandum of agreement, we propose to restrict the service list for the aforementioned projects as follows:

Dr. Laura Henley Dean, Advisory Council on Historic Preservation, The Old Post Office Building, Suite 803, 1100 Pennsylvania Avenue, NW, Washington, D.C. 20004

Dr. Cathie Matthews,

State Historic Preservation Officer,1500 Tower Building 323 Center Street,

Little Rock, AR 72201

Chairperson Tamara Summerfield, Quapaw Tribal Business Committee, P.O. Box 765, Quapaw, OK 74363

Principal Chief Charles O. Tillman, Jr., Osage Tribal Council, P.O. Box 779, Pawhuska, OK 74056

Donald H. Clarke, Law Offices of GKRSE, 1500 K Street N.W., Suite 330, Washington DC 20005

Scott T. Fletcher, Duke Engineering & Services, Inc., 400 S. Tryon St., WC22K, P.O. Box 1004, Charlotte, N.C. 28201-1004

Darlene Low, Southwestern Power Administration, Department of Energy, One West Third Street, Tulsa, OK 74103

Robert Orr, Southwestern Power Administration, P.O. Box 3337, Springfield, MO 65808

Any person on the official service list for the above-captioned proceedings may request inclusion on the restricted service list, or may request that a restricted service list not be established, by filing a motion to that effect within 15 days of this notice date.

An original and 8 copies of any such motion must be filed with Magalie R. Salas, the Secretary of the Commission (888 First Street, NE, Washington, DC 20426) and must be served on each person whose name appears on the official service list. If no such motions are filed, the restricted service list will be effective at the end of the 15 day period. Otherwise, a further notice will be issued ruling on any motion or motions filed within the 15 day period.

Magalie R. Salas,
Secretary.

[FR Doc. 02-4573 Filed 2-26-02; 8:45 am]

BILLING CODE 6717-01-P